DEPARTMENT OF TRANSPORTATION

Office of the Secretary

Notice of Applications for Certificates of Public Convenience and Necessity and Foreign Air Carrier Permits Filed Under Subpart B (Formerly Subpart Q) During the Week Ending January 31, 2009

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0024.

Date Filed: January 27, 2009.

Due Date for Answers, Conforming Applications, or Motion to Modify Scope: February 17, 2009.

Description: Application of Jazz Air LP d/b/a Air Canada Jazz, d/b/a Jazz and d/b/a Jazz Air (“Jazz”) requesting a foreign air carrier permit and exemption authority that would enable Jazz to take advantage of the expanded air service opportunities made available to both U.S. and Canadian carriers pursuant to the terms of the U.S.-Canada Open Skies Agreement.

Renee V. Wright,
Program Manager, Docket Operations Federal Register Liaison.

[FR Doc. E9-2889 Filed 2-10-09; 8:45 am]

BILLING CODE 4910-9X-P